DEPARTMENT OF THE INTERIOR

National Park Service

[DOI-2023-0018; PPWOPPFLL0/PSSPPFL0088.00.1]

Privacy Act of 1974; System of Records

AGENCY: National Park Service, Interior.

ACTION: Notice of a modified system of records.

SUMMARY: Pursuant to the provisions of the Privacy Act of 1974, as amended, the Department of the Interior (DOI) is issuing a public notice of its intent to modify the National Park Service (NPS) Privacy Act system of records, INTERIOR/NPS-2, Land Acquisition and Relocation Files. DOI is revising this notice to expand the scope to include realty management activities; update the system name; propose new and modified routine uses; and update all sections to accurately reflect management of the system of records. This modified system will be included in DOI's inventory of record systems.

DATES: This modified system will be effective upon publication. New or modified routine uses will be effective April 8, 2024. Submit comments on or before April 8, 2024.

ADDRESSES: You may send comments identified by docket number [DOI-2023-0018] by any of the following methods:

• Federal eRulemaking Portal: https://www.regulations.gov. Follow the instructions for sending comments.

• Email: DOI_Privacy@ios.doi.gov. Include docket number [DOI-2023-0018] in the subject line of the message.

• U.S. Mail or Hand-Delivery: Teri Barnett, Departmental Privacy Officer, U.S. Department of the Interior, 1849 C Street NW, Room 7112, Washington, DC 20240.

Instructions: All submissions received must include the agency name and docket number [DOI-2023-0018]. All comments received will be posted without change to https://www.regulations.gov, including any personal information provided.

Docket: For access to the docket to read background documents or comments received, go to https://www.regulations.gov.

FOR FURTHER INFORMATION CONTACT: Felix Uribe, Associate Privacy Officer, National Park Service, 12201 Sunrise Valley Drive, Reston, VA 20192, nps_privacy@nps.gov or (202) 354-6925.

SUPPLEMENTARY INFORMATION:

I. Background

The NPS maintains the INTERIOR/NPS-2, Land Acquisition and Relocation Files, system of records. The mission of the NPS is to preserve the natural and cultural resources and values of the National Park system for the enjoyment, education, and inspiration of this and future generations. Land protection activities play a vital role in accomplishing these objectives within National Park units (often referred to as parks). The purpose of the system of records is to manage land acquisition, relocation, and realty management activities for lands or interests in lands associated with National Park units.

DOI is proposing to change the name of the system from INTERIOR/NPS-2, Land Acquisition and Relocation Files, to INTERIOR/NPS-2, Land Acquisition, Relocation, and Realty Management Records, to reflect the expanded scope of the system of records to include realty management activities. DOI is also updating the system location, category of records, category of individuals, records source categories, storage, retrieval, records retention and disposal, and safeguards; updating the authorities in accordance with the new Title 54 of the U.S. Code, which includes only laws applicable to NPS; updating the notification, records access and contesting procedures; adding new sections for security classification, purpose, and history of the system of records; and making general updates to the remaining sections to accurately reflect management of the system of records in accordance with the Office of Management and Budget (OMB) Circular A-108, Federal Agency Responsibilities for Review, Reporting, and Publication under the Privacy Act.

DOI is also changing the routine uses from a numeric to alphabetic list and is proposing to modify existing routine uses to provide clarity and transparency, and to reflect updates consistent with standard DOI routine uses. Routine use A was modified to further clarify disclosures to the Department of Justice (DOJ) or other Federal agencies, when necessary, in relation to litigation or judicial hearings. Modified routine use B clarifies disclosures to a congressional office to respond to or resolve an individual's request made to that office. Modified routine use D allows DOI to refer matters to the appropriate Federal, State, local, or foreign agencies, or other public authority agencies responsible for investigating or prosecuting violations of, or for enforcing, or implementing, a statute, rule, regulation, order, or license. Modified routine use J and proposed routine use K allow DOI and NPS to share information with appropriate Federal agencies or entities when reasonably necessary to respond to a breach of personally identifiable information (PII) and to prevent, minimize, or remedy the risk of harm to individuals or the Federal Government, or assist an agency in locating individuals affected by a breach in accordance with OMB Memorandum M-17-12, Preparing for and Responding to a Breach of Personally Identifiable Information. Routine use P was modified to remove the reference to condemnation proceedings since the condemnation process is covered by routine use A and add clarifying reference to the regulations of the Attorney General for review of title for Federal land acquisitions.

DOI is proposing new routine uses to facilitate sharing of information with agencies and organizations to promote the integrity of the records in the system or carry out a statutory responsibility of the DOI or Federal Government. Proposed routine use C facilitates sharing of information with the Executive Office of the President to resolve issues concerning individuals' records. Proposed routine use E allows NPS to share information with other Federal agencies to assist in the performance of their responsibility to ensure records are accurate and complete, and to respond to requests from individuals who are the subject of the records. Proposed routine use F facilitates sharing of information related to hiring, issuance of a security clearance, or a license, contract, grant or benefit. Proposed routine use G allows NPS to share information with the National Archives and Records Administration (NARA) to conduct records management inspections. Proposed routine use H allows NPS to share information with external entities, such as State, territorial and local governments, and Tribal organizations needed in response to court orders and/or for discovery purposes related to litigation. Proposed routine use I facilitates sharing of information with an expert, consultant, grantee, shared service provider, or contractor when authorized and necessary to perform services on DOI's behalf to carry out the purposes of the system. Proposed routine use L facilitates sharing with the OMB in relation to legislative affairs mandated by OMB Circular A-19. Proposed routine use M allows NPS to share information with the Department of the Treasury to recover debts owed to the United States. Proposed routine use N allows NPS to share information with the news media and the public if there is a legitimate public interest in the disclosure of the information. Proposed routine use Q allows NPS to share information with other Federal agencies, Federal entities, State, territorial, and local governments, Tribal organizations, and nonprofit partners on land acquisition, relocation, or realty management projects. Proposed routine use R facilitates sharing of information when authorized and necessary for land acquisition, relocation, or realty management projects.

II. Privacy Act

The Privacy Act of 1974, as amended, embodies fair information practice principles in a statutory framework governing the means by how Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/NPS-2, Land Acquisition, Relocation, and Realty Management Records, system of records notice is published in its entirety below. In accordance with 5 U.S.C. 552a(r), DOI has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/NPS-2, Land Acquisition, Relocation, and Realty Management Records.

SECURITY CLASSIFICATION:

Unclassified.

SYSTEM LOCATION:

National Program Center, Land Resources Division, National Park Service, U.S. Department of the Interior, 1849 C Street NW, Washington, DC 20240. Records are also located at Project Offices and Regional Land Offices involved with land acquisition, relocation, and realty management activities. A current listing of these offices may be obtained by writing to the System Manager.

SYSTEM MANAGER(S):

Chief, National Program Center, Land Resources Division, National Park Service, U.S. Department of the Interior, 1849 C Street NW, Washington, DC 20240.

AUTHORITY FOR MAINTENANCE OF THE SYSTEM:

Title 54, United States Code, National Park Service and Related Programs; 44 U.S.C. 3101, Records management by agency heads; general duties; and 42 U.S.C. 4651, Uniform policy on real property acquisition practices.

PURPOSE(S) OF THE SYSTEM:

The purpose of the system is to help NPS manage land acquisition, relocation, and realty management activities across lands associated with National Park units.

CATEGORIES OF INDIVIDUALS COVERED BY THE SYSTEM:

Current and former landowners, tenants, permittees, and other entities with an interest in lands associated with a National Park unit.

CATEGORIES OF RECORDS IN THE SYSTEM:

This system contains records on:

(1) Deeds, title evidence such as easements and title policies, right-of-way permits, agreements, correspondence, notes, maps, surveys, tracts, and memoranda pertinent to land acquisition, relocation, and realty management projects across lands associated with a National Park unit. These records may contain information that includes names, home addresses, personal telephone numbers, email addresses of private individuals, such as landowners, tenants, or permittees that are involved in a project. Records are organized by tract number, instrument number, or landowner name.

(2) Private individuals receiving payments for land acquisition or relocation activities that may contain personal or financial information, including Taxpayer Identification Number, Social Security number, or bank account numbers to ensure payments are successfully made to the correct individual.

RECORD SOURCE CATEGORIES:

Information in this system is obtained from title companies, public records, mapping contractors, survey contractors, contract appraisers, environmental site assessors, landowners and permittees.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial, and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To authorized title companies and closing agents for title policies and closings.

P. To the United States Department of Justice for preliminary and final title opinions as required by the regulations of the Attorney General governing the review and approval of title for Federal land acquisitions.

Q. To other Federal agencies and entities, State, territorial, and local governments, Tribal organizations, and nonprofit partners working in conjunction with the NPS on land acquisition, relocation, or realty management projects.

R. To members of the public when statute or regulation requires that a Federal realty action be accompanied by a public notification detailing the parties and lands involved.

POLICIES AND PRACTICES FOR STORAGE OF RECORDS:

Paper records are contained in file folders and stored in locked filing cabinets and file rooms in secure DOI controlled facilities. Electronic records are contained in computers, email, network storage devices, and electronic databases.

POLICIES AND PRACTICES FOR RETRIEVAL OF RECORDS:

Records are indexed and retrieved by an individual's name or by a unique identifier, such as a tract or instrument number.

POLICIES AND PRACTICES FOR RETENTION AND DISPOSAL OF RECORDS:

Records are retained in perpetuity in accordance with the NPS Records Schedule Resource Management and Lands (Item 1) (N1-79-08-1), which was approved by NARA. Once projects are completed, the paper records are transferred to NARA for permanent storage. Electronic records remain accessible to authorized NPS staff for ongoing park management purposes.

ADMINISTRATIVE, TECHNICAL, AND PHYSICAL SAFEGUARDS:

The records contained in this system are safeguarded in accordance with 43 CFR 2.226 and other applicable security and privacy rules and policies. Paper records are under the control of authorized personnel and stored within secured filing cabinets and file rooms. The desktop computers and servers on which electronic records reside are in secured DOI controlled facilities with physical, technical, and administrative levels of security to prevent unauthorized access to the DOI network and information assets. Electronic records on laptop computers are protected with data-at-rest encryption on their hard drives. Access to the electronic records requires successful network authentication and is limited to personnel who have a need to know the information for the performance of their official duties.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include multi-factor user authentication, passwords, database permissions, encryption, firewalls, audit logs, and network system security monitoring, and software controls. System backups are stored in a locked and controlled room in a secure, off-site location.

A Privacy Act Warning Notice appears on computer monitor screens when records containing information on individuals are made available to authorized personnel. System administrators and authorized users are trained and required to follow established internal security protocols and must complete all security, privacy, and records management training and sign the DOI Rules of Behavior.

RECORD ACCESS PROCEDURES:

An individual requesting records access to their records should send a written inquiry to the System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be marked “PRIVACY ACT REQUEST FOR ACCESS” on both the envelope and letter. A request for access must meet the requirements of 43 CFR 2.238.

CONTESTING RECORD PROCEDURES:

An individual requesting amendment of their records should send a written request to the System Manager identified above. DOI instructions for submitting a request for amendment of records are available on the DOI Privacy Act Request website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirement of 43 CFR 2.246.

NOTIFICATION PROCEDURES:

An individual requesting notification of the existence of records about them should send a signed, written inquiry to the System Manager identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

48 FR 51696 (November 10, 1983); modification published at 73 FR 63992 (October 28, 2008).

Teri Barnett,
Departmental Privacy Officer, U.S. Department of the Interior.

[FR Doc. 2024-04976 Filed 3-7-24; 8:45 am]

BILLING CODE 4312-52-P